DEPARTMENT OF HOMELAND SECURITY

Coast Guard

33 CFR Part 117

[USCG-2007-0185]

Drawbridge Operation Regulations; Norwalk River, Norwalk, CT

AGENCY: Coast Guard, DHS.

ACTION: Notice of temporary deviation from regulations.

SUMMARY: The Commander, First Coast Guard District, has issued a temporary deviation from the regulations governing the operation of the Washington Street S136 Bridge, across the Norwalk River, mile 0.0, at Norwalk, Connecticut. This deviation allows the bridge owner to open only one of the two moveable spans for bridge openings between January 2, 2008 and March 31, 2008. Vessels that require a full two-span bridge opening will be required to provide at least a twelve-hour advance notice by calling the bridge operator at (203) 866-7691. This deviation is necessary to facilitate scheduled bridge maintenance.

DATES: This deviation is effective from January 2, 2008 through March 31, 2008.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The Washington Street S136 Bridge, across the Norwalk River, mile 0.0, at Norwalk, Connecticut, has a vertical clearance in the closed position of 9 feet at mean high water and 16 feet at mean low water. The existing regulations are listed at 33 CFR 117.217(a).

The owner of the bridge, Connecticut Department of Transportation, requested a temporary deviation to facilitate scheduled structural maintenance and painting at the bridge.

In order to perform the structural and bridge painting operations, one of the two moveable spans must remain in the closed position in order to erect paint containment and perform the required bridge maintenance.

Under this temporary deviation the Washington Street S136 Bridge across the Norwalk River, mile 0.0, at Norwalk, Connecticut, need open only one of the two moveable spans for bridge openings from January 2, 2008 through March 31, 2008. Vessels requiring a full two-span bridge opening may do so provided that they give at least a twelve-hour advance notice to the bridge operator by calling (203) 866-7691.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

In accordance with 33 CFR 117.35(e), the bridge must return to its regular operating schedule immediately at the end of the designated time period. This deviation from the operating regulations is authorized under 33 CFR 117.35.

Dated: December 27, 2007.
Gary Kassof,
Bridge Program Manager, First Coast Guard District.

[FR Doc. E8-104 Filed 1-7-08; 8:45 am]

BILLING CODE 4910-15-P